DEPARTMENT OF LABOR

Employment and Training Administration

Proposed Information Collection; Comments: Title 29 CFR 29, Labor Standards for the Registration of Apprenticeship Programs

ACTION: Notice.

SUMMARY: The Department of Labor, as part of its continuing effort to reduce paperwork and respondent burden, conducts a pre-clearance consultation program to provide the general public and Federal agencies with an opportunity to comment on proposed and/or continuing collections of information in accordance with the Paperwork Reduction Act of 1995 (PRA95) [44 U.S.C. 3506(c)(2)(A)]. This program helps to ensure that requested data can be provided in the desired format, reporting burden (time and financial resources) is minimized, collection instruments are clearly understood, and the impact of collection requirements on respondents can be properly assessed. Currently, the Employment and Training Administration is soliciting comments concerning the proposed three-year extension (without change) of the collection of the registered apprenticeship program data under Title 29 CFR Part 29 (Labor Standards for the Registration of Apprenticeship Programs). This request covers the period from the current end date of May 31, 2005 to the new end date of May 31, 2008. A copy of the proposed Information Collection Request (ICR) can be obtained by contacting the office listed below in the addressee section of this notice.

DATES: Submit comments on or before August 1, 2005.

ADDRESSES: Send comments to: Anthony Swoope, Administrator, Office of Apprenticeship Training, Employer and Labor Services, 200 Constitution Ave., NW., Room N-5311, Washington, DC 20210; (202-693-2806—not a toll free number) fax: 202-693-2808 and e-mail address: swoope.anthony@dol.gov.

SUPPLEMENTARY INFORMATION:

I. Background

The National Apprenticeship Act of 1937 authorizes and directs the Secretary of Labor “to formulate and promote the furtherance of labor standards necessary to safeguard the welfare of apprentices, to extend the application of such standards by encouraging the inclusion thereof in contracts of apprenticeship, to bring together employers and labor for the formulation of programs of apprenticeship, to cooperate with State agencies engaged in the formulation and promotion of standards of apprenticeship, and to cooperate with the Secretary of Education * * *” (29 U.S.C. 50). Section 50a of the Act authorizes the Secretary of Labor to “publish information relating to existing and proposed labor standards of apprenticeship,” and to “appoint national advisory committees * * *” (29 U.S.C. 50a).

Title 29 CFR Part 29 sets forth labor standards to safeguard the welfare of apprentices, and to extend the application of such standards by prescribing policies and procedures concerning registration, for certain Federal purposes, of acceptable apprenticeship programs with the U.S. Department of Labor, Employment and Training Administration, Office of Apprenticeship Training, Employer and Labor Services. These labor standards, policies, and procedures cover registration, cancellation of apprenticeship programs and apprenticeship agreements; the recognition of a State agency as the appropriate agency for registering local apprenticeship programs for certain Federal purposes; and matters relating thereto.

II. Desired Focus of Comments

Currently, the Employment and Training Administration is soliciting comments concerning the proposed three-year extension (without change) of the collection of the registered apprenticeship program data under Title 29 CFR part 29 (Labor Standards for the Registration of Apprenticeship Programs). This request covers the period from the current end date of May 31, 2005 to the new end date of May 31, 2008.

• Evaluate whether the proposed collection of information is necessary for the proper performance of the functions of the agency, including whether the information will have practical utility;

• Evaluate the accuracy of the agency's estimate of the burden of the proposed collection of information, including the validity of the methodology and assumptions used;

• Enhance the quality, utility, and clarity of the information to be collected; and

• Minimize the burden of the collection of information on those who are to respond by including the use of appropriate automated, electronic, mechanical, or other technological collection techniques or other forms of information technology, e.g., permitting electronic submissions of responses.

A copy of the proposed information collection request (ICR) can be obtained by contacting the office listed above in the addressee section of this notice.

III. Current Actions

This is a request for OMB approval under the Paperwork Reduction Act of 1995 (PRA95) (44 U.S.C. 3506(c)(2)(A)) to extend the collection of the registered apprenticeship program data under Title 29 CFR Part 29 (Labor Standards for the Registration of Apprenticeship Programs) without changes. This request covers the period from the current end date of May 31, 2005 to the new end date of May 31, 2008.

Recordkeeping and data collection activities regarding registered apprenticeship are by-products of the registration system. Organizations, which apply for apprenticeship sponsorship enter into an agreement with the Federal Government or cognizant State government to operate their proposed programs consistent with 29 CFR Part 29. Apprenticeship sponsors are not required to file reports regarding their apprentices other than individual registration and update information as an apprentice moves through their program.

Type of Review: Extension (without change).

Agency: Employment and Training Administration.

Title: Title 29 CFR Part 29,Labor Standards for the Registration of Apprenticeship Programs.

OMB Number: 1205-0223 for 29 CFR Part 29.

Agency Number: ETA Form 671.

Recordkeeping: Apprenticeship sponsors are required to keep accurate records on recruitment, selection of the applicant and/or apprentice, the employment and training activities related to the apprentice, and the qualifications of each applicant/apprentice pertaining to determination of compliance with the regulation. Records must be retained, where appropriate, regarding affirmative action plans and evidence that qualification standards have been validated. State Apprenticeship Councils are also obligated to keep adequate records pertaining to determination of compliance with these regulations. All of the above records are required to be maintained for five years. If this information was not required, there would be no documentation that the apprenticeship programs were being operated in a nondiscriminatory manner. Many apprenticeship programs are 4 years or more in duration; therefore, it is important to maintain the records for at least 5 years.

Burden Hours: (See Chart below.)

Requirement | Sec. | Total respondents | Frequency | Annual response | Average response time (hours) | Annual burden hours
Form 671 | 29.3 | 139,300 | 1-time basis | 139,300 | .33/spon. | 34,825
| 29.6 | 139,100 | 1-time basis | 139,100 | .25/app. | 11,545
| 29.5 | 1,700 | 1-time basis | 1,700 | 2/spon | 3,400
|  | 2,900 | 1-time basis | 2,900 | 2/SAC | 5,800
| 29.12 | (31) | 1-time basis | (31) | 0 | 0
| 29.12 (accomplished in 1977; no new state agency expected in 2005)
| 29.12 | 31 | 1-time basis | 31 | 2/SAC | 62
| 29.13 | 0 | 0 | 0 | 0 | 0
Totals |  | 283,031 |  | 283,031 |  | 55,632

Total Burden Hours: 55,632.

Total Burden Cost (capital/start-up): $0.

Total Burden Cost (operating/maintaining): $0.

Comments submitted in response to this notice will be summarized and/or included in the request for Office of Management and Budget approval of the information collection request; they will also become a matter of public record.

Dated: Signed at Washington, DC this 25th day of May, 2005.
Anthony Swoope,
Administrator, Office of Apprenticeship Training, Employer and Labor Services.

[FR Doc. E5-2794 Filed 6-1-05; 8:45 am]

BILLING CODE 4510-30-P